DEPARTMENT OF COMMERCE

National Oceanic and Atmospheric Administration

Space Weather Advisory Group Meeting

AGENCY: National Oceanic and Atmospheric Administration (NOAA), Commerce.

ACTION: Notice of public meeting.

SUMMARY: The Space Weather Advisory Group (SWAG) will meet for three hours on September 13, 2024.

DATES: The meeting is scheduled as follows: September 13, 2024 from 11 a.m.-2 p.m. Eastern Daylight Saving Time (EDT).

ADDRESSES: The public meeting will be a virtual event. For details on how to connect to the webinar or to submit comments, please visit https://www.weather.gov/swag or contact Amy Macpherson, National Weather Service; telephone: 816-287-1344; email: amy.macpherson@noaa.gov.

FOR FURTHER INFORMATION CONTACT: Amy Macpherson, National Weather Service, NOAA, 7220 NW 101st Terrace, Kansas City, MO 64153; 816-287-1344 or amy.macpherson@noaa.gov; or visit the SWAG website: https://www.weather.gov/swag.

SUPPLEMENTARY INFORMATION: Pursuant to the Promoting Research and Observations of Space Weather to Improve the Forecasting of Tomorrow (PROSWIFT) Act, 51 U.S.C. 60601 et seq., the Administrator of NOAA and the National Science and Technology Council's Space Weather Operations, Research, and Mitigation (SWORM) Subcommittee established the SWAG on April 21, 2021. The SWAG is the only Federal Advisory SWAG that advises and informs the interest and work of the SWORM. The SWAG is to receive advice from the academic community, the commercial space weather sector, and nongovernmental space weather end users to carry out the responsibilities of the SWAG set forth in the PROSWIFT Act, 51 U.S.C. 60601 et seq.

The SWAG is directed to advise the SWORM on the following: facilitating advances in the space weather enterprise of the United States; improving the ability of the United States to prepare for, mitigate, respond to, and recover from space weather phenomena; enabling the coordination and facilitation of research to operations and operations to research, as described in 51 U.S.C 60604(d); and developing and implementing the integrated strategy under 51 U.S.C. 60601(c), including subsequent updates and reevaluations. The SWAG shall also conduct a comprehensive survey of the needs of users of space weather products to identify the space weather research, observations, forecasting, prediction, and modeling advances required to improve space weather products, as required by 51 U.S.C. 60601(d)(3).

Matters To Be Considered

The meeting will be open to the public. During the meeting, the SWAG will discuss the PROSWIFT Act, 51 U.S.C. 60601 et seq., directed duties of the SWAG including the required 51 U.S.C. 60601(d)(3) user survey. The full agenda and meeting materials will be published on the SWAG website: https://www.weather.gov/swag.

Additional Information and Public Comments

The meeting will be held over three hours and will be conducted in a virtual manner (for meeting details see ADDRESSES). Please register for the meeting through the website: https://www.weather.gov/swag.

This event is accessible to individuals with disabilities. For all other special accommodation requests, please contact amy.macpherson@noaa.gov. This webinar is a NOAA public meeting and will be recorded and transcribed. If you have a public comment, you acknowledge you will be recorded and are aware you can opt out of the meeting. Participation in the meeting constitutes consent to the recording. Both the meeting minutes and presentations will be posted to the SWAG website https://www.weather.gov/swag. The agenda, speakers and times are subject to change. For updates, please check the SWAG website https://www.weather.gov/swag.

Public comments directed to the SWAG members and SWAG related topics are encouraged. For other written public comments, please email amy.macpherson@noaa.gov by September 6, 2024. Written comments received after this date will be distributed to the SWAG but may not be reviewed prior to the meeting date. As time allows, public comments will be read into the public record during the meeting, or posted to the meeting website.

Dated: August 6, 2024.
Michael Farrar,
Director, National Centers for Environmental Prediction, National Weather Service, National Oceanic and Atmospheric Administration.

[FR Doc. 2024-17872 Filed 8-9-24; 8:45 am]

BILLING CODE 3510-KE-P